DEPARTMENT OF LABOR

Office of the Secretary

Bureau of International Labor Affairs; Notice of Publication of the Department of Labor's List of Goods From Countries Produced by Child Labor or Forced Labor

AGENCY: Bureau of International Labor Affairs, Department of Labor.

ACTION: Announcement of public availability of initial list of goods and report of implementation.

SUMMARY: This notice announces the publication of an initial list of goods from countries that the Bureau of International Labor Affairs (“ILAB”) has reason to believe are produced by child labor or forced labor in violation of international standards (“List”). ILAB is required to develop and make available to the public the List pursuant to the Trafficking Victims Protection Reauthorization Act of 2005 (“TVPRA”).

FOR FURTHER INFORMATION CONTACT: Director, Office of Child Labor, Forced Labor, and Human Trafficking, Bureau of International Labor Affairs, U.S. Department of Labor at (202) 693-4843 (this is not a toll-free number).

SUPPLEMENTARY INFORMATION: ILAB's Office of Child Labor, Forced Labor, and Human Trafficking (OCFT) carries out the mandates of the TVPRA. For complete information on OCFT's TVPRA activities, please visit the Web site listed below. Previous Federal Register notices issued on this subject include: Notice of Proposed Procedural Guidelines for the Development and Maintenance of the List of Goods From Countries Pursuant to the Trafficking Victims Protection Reauthorization Act of 2005 (72 FR 55808, Oct. 1, 2007); Notice of Procedural Guidelines for the Development and Maintenance of the List of Goods from Countries Produced by Child Labor or Forced Labor; Request for Information (72 FR 73375, Dec. 27, 2007); and Notice of Public Hearing to Collect Information to Assist in the Development of the List of Goods From Countries Produced by Child Labor or Forced Labor (73 FR 21985, Apr. 23, 2008).

The Secretary of Labor, acting through the Bureau of International Labor Affairs, is mandated by the TVPRA to “carry out additional activities to monitor and combat forced labor and child labor in foreign countries.” Section 105(b)(2) of the TVPRA of 2005, 22 U.S.C. 7112(b)(2), listed these activities as:

(A) Monitor the use of forced labor and child labor in violation of international standards;

(B) Provide information regarding trafficking in persons for the purpose of forced labor to the Office to Monitor and Combat Trafficking of the Department of State for inclusion in [the] trafficking in persons report required by section 110(b) of the Trafficking Victims Protection Act of 2000 (22 U.S.C. 7107(b));

(C) Develop and make available to the public a list of goods from countries that the Bureau of International Labor Affairs has reason to believe are produced by forced labor or child labor in violation of international standards;

(D) Work with persons who are involved in the production of goods on the list described in subparagraph (C) to create a standard set of practices that will reduce the likelihood that such persons will produce goods using the labor described in such subparagraph; and

(E) Consult with other departments and agencies of the United States Government to reduce forced and child labor internationally and ensure that products made by forced labor and child labor in violation of international standards are not imported into the United States.

On December 23, 2008, the Trafficking Victims Protection Reauthorization Act of 2008, 22 U.S.C. 7101 came into force, setting a deadline of January 15, 2010 by which ILAB must produce an initial List and a report of ILAB's implementation of its TVPRA mandates.

ILAB announces the publication of the initial List in a new report, The Department of Labor's List of Goods Produced by Child Labor or Forced Labor. The full report, including the List, implementation update, Frequently Asked Questions and a discussion of the List's context, scope, methodology, and limitations, is available at http://www.dol.gov/ilab/programs/ocft/tvpra.htm.

Signed at Washington, DC, this 1st day of September 2009.
Sandra Polaski,
Deputy Undersecretary for International Affairs.

[FR Doc. E9-21486 Filed 9-9-09; 8:45 am]

BILLING CODE 4510-28-P